DEPARTMENT OF THE INTERIOR

National Park Service

Notice of Inventory Completion: The Colorado College, Colorado Springs, CO

AGENCY: National Park Service, Interior.

ACTION: Notice.

Notice is here given in accordance with the Native American Graves Protection and Repatriation Act (NAGPRA), 25 U.S.C. 3003, of the completion of an inventory of human remains in the possession of The Colorado College, Colorado Springs, CO. The human remains were removed from Adams County, CO.

This notice is published as part of the National Park Service's administrative responsibilities under NAGPRA, 25 U.S.C. 3003 (d)(3). The determinations within this notice are the sole responsibility of the museum, institution, or Federal agency that has control of the Native American human remains. The National Park Service is not responsible for the determinations within this notice.

A detailed assessment of the human remains was made by The Colorado College professional staff in consultation with representatives of Apache Tribe of Oklahoma; Arapahoe Tribe of the Wind River Reservation, Wyoming; Cheyenne-Arapaho Tribes of Oklahoma; Comanche Nation, Oklahoma; Fort Sill Apache Tribe of Oklahoma; Jicarilla Apache Nation, New Mexico; Kiowa Indian Tribe of Oklahoma; Mescalero Apache Tribe of the Mescalero Reservation, New Mexico; Northern Cheyenne Tribe of the Northern Cheyenne Indian Reservation, Montana; Pawnee Nation of Oklahoma; Southern Ute Indian Tribe of the Southern Ute Reservation, Colorado; Ute Indian Tribe of the Uintah & Ouray Reservation, Utah; and Ute Mountain Tribe of the Ute Mountain Reservation, Colorado, New Mexico & Utah.

On August 7, 1985, human remains representing one individual were removed from private land approximately 8 miles east of Byers, Adams County, CO, by the Adams County Coroner's Office. After investigation determined that there was no forensic significance, the human remains were transported to The Colorado College Physical Anthropology Laboratory in Palmer Hall for curation and educational purposes (Accession no. CCO 85-321). In 1989, the human remains were moved to the Biological Anthropology Research Laboratory in Barnes Science Center. No known individuals were identified. No associated funerary objects are present. Cranial morphology indicates that the remains are Native American.

The map “Indian Land Areas Judicially Established 1978” includes Adams County in the land aboriginally occupied by the Cheyenne and Arapaho tribes. The map “Early Indian Tribes, Culture Areas, and Linguistic Stocks” establishes the presence of the Arapaho and Ute tribes in the area at the time of contact. The Colorado Office of Archaeology and Historic Preservation map “Estimated Tribal Territories in Colorado During the Late Nineteenth Century” shows the presence of the Apache, Arapaho, Cheyenne, Comanche, and Kiowa tribes in all of eastern Colorado, including Adams County. The Southern Ute Indian Tribe map “Original Ute Domain” includes Adams County as a part of the original domain of the Ute. Official tribal representatives provided folklore, oral tradition, geographical, and historical evidence of cultural affiliation, all of which indicated that Adams County is a part of their traditional territory.

Officials of The Colorado College have determined that, pursuant to 25 U.S.C. 3001, Sec. 2 (9-10), the human remains listed above represent the physical remains of one individual of Native American ancestry. Officials of The Colorado College also have determined that, pursuant to 25 U.S.C. 3001 (2), there is a relationship of shared group identity that can be reasonably traced between the Native American human remains and the Apache Tribe of Oklahoma; Arapahoe Tribe of the Wind River Reservation, Wyoming; Cheyenne-Arapaho Tribes of Oklahoma; Comanche Nation, Oklahoma; Fort Sill Apache Tribe of Oklahoma; Jicarilla Apache Nation, New Mexico; Kiowa Indian Tribe of Oklahoma; Mescalero Apache Tribe of the Mescalero Reservation, New Mexico; Northern Cheyenne Tribe of the Northern Cheyenne Indian Reservation, Montana; Pawnee Nation of Oklahoma; Southern Ute Indian Tribe of the Southern Ute Reservation, Colorado; Ute Indian Tribe of the Uintah & Ouray Reservation, Utah; and Ute Mountain Tribe of the Ute Mountain Reservation, Colorado, New Mexico & Utah.

Representatives of any other Indian tribe that believes itself to be culturally affiliated with the human remains should contact Joyce Eastburg, Legal Assistant, The Colorado College, 14 East Cache La Poudre Street, Colorado Springs, CO 80903, telephone (719) 389-6703, before December 31, 2003. Repatriation of the human remains to the Southern Ute Indian Tribe of the Southern Ute Reservation, Colorado may proceed after that date if no additional claimants come forward.

The Colorado College is responsible for notifying the Apache Tribe of Oklahoma; Arapahoe Tribe of the Wind River Reservation, Wyoming; Cheyenne-Arapaho Tribes of Oklahoma; Comanche Nation, Oklahoma; Fort Sill Apache Tribe of Oklahoma; Jicarilla Apache Nation, New Mexico; Kiowa Indian Tribe of Oklahoma; Mescalero Apache Tribe of the Mescalero Reservation, New Mexico; Northern Cheyenne Tribe of the Northern Cheyenne Indian Reservation, Montana; Pawnee Nation of Oklahoma; Southern Ute Indian Tribe of the Southern Ute Reservation, Colorado; Ute Indian Tribe of the Uintah & Ouray Reservation, Utah; and Ute Mountain Tribe of the Ute Mountain Reservation, Colorado, New Mexico & Utah that this notice has been published.

Dated: October 24, 2003.
John Robbins,
Assistant Director, Cultural Resources.

[FR Doc. 03-29766 Filed 11-28-03; 8:45 am]

BILLING CODE 4310-50-S